DEPARTMENT OF ENERGY

Office of Science; Fusion Energy Sciences Advisory Committee; Renewal

Pursuant to section 14(a)(2)(A) of the Federal Advisory Committee Act and in accordance with title 41 of the Code of Federal Regulations, section 102-3.65, and following consultation with the Committee Management Secretariat, General Services Administration, notice is hereby given that the Fusion Energy Sciences Advisory Committee has been renewed for a two-year period beginning November 2003. The Committee will provide advice to the Director, Office of Science, on long-range plans, priorities, and strategies for demonstrating the scientific and technological feasibility of fusion energy.

The Secretary has determined that the renewal of the Fusion Energy Sciences Advisory Committee is essential to the conduct of the Department's business and in the public interest in connection with the performance of duties imposed upon the Department of Energy by law. The Committee will continue to operate in accordance with the provisions of the Federal Advisory Committee Act, the Department of Energy Organization Act (Pub. L. 95-91), and implementing regulations.

Further information regarding this advisory committee can be obtained from Ms. Rachel Samuel at (202) 586-3279.

Issued in Washington, DC on July 18, 2003.
James N. Solit,
Advisory Committee Management Officer.

[FR Doc. 03-19093 Filed 7-25-03; 8:45 am]

BILLING CODE 6450-01-P